DEPARTMENT OF THE TREASURY

Treasury Advisory Committee on Commercial Operations of the U.S. Customs Service

AGENCY: Departmental Offices, Treasury.

ACTION: Renewal of Treasury Advisory Committee on Commercial Operations of the U.S. Customs Service and solicitation of applications for committee membership.

SUMMARY: It is in the public interest to renew the Advisory Committee for another two-year term. This notice also establishes criteria and procedures for the selection of members.

Title: The Treasury Advisory Committee on Commercial Operations of the U.S. Customs Service.

Purpose: The purpose of the Committee is to present advice and recommendations to the Secretary of the Treasury regarding commercial operations of the U.S. Customs Service and to submit a report to Congress containing a summary of its operations and its views and recommendations.

Statement of Public Interest: It is in the public interest to continue the existence of the Committee upon expiration, under the provisions of the Federal Advisory Committee Act, of its current two-year term. The Committee provides a critical forum for distinguished representatives of diverse industry sectors to present their views on major issues involving commercial operations of the Customs Service. These views are offered directly to senior Treasury and Customs officials on a regular basis in a candid atmosphere. There exists no other single body that serves a comparable function.

SUPPLEMENTARY INFORMATION:

Background

In the Omnibus Budget Reconciliation Act of 1987 (Pub. L. 100-203), Congress repealed the statutory mandate for a Customs User Fee Advisory Committee and directed the Secretary of the Treasury to create a new Advisory Committee on Commercial Operations of the U.S. Customs Service. The original Committee consisted of 20 members drawn from industry sectors affected by Customs commercial operations. The Committee's charter was filed on October 17, 1988 and expired two years later. Charters were subsequently filed for second, third, fourth, fifth, and sixth two-year terms. The current charter will expire on October 15, 2000. The Treasury Department plans to file a new charter by that date renewing the Committee for a seventh two-year term.

Objective, Scope and Description of the Committee

The Committee's objectives are to advise the Secretary of the Treasury on issues relating to the commercial operations of the Customs Service. It is expected that, during its seventh two-year term, the Committee will consider such issues as the Customs Entry Revision Project (ERP), the Merchandise Processing Fee, the budget for commercial operations, carrier issues, the administration of staff and resources for commercial operations, informed compliance and compliance assessment, automated systems, commercial enforcement, international efforts to harmonize customs practices and procedures, strategic planning, and northern border and southern border issues and the relationships with Canadian Customs and Mexican Customs.

The Committee will be chaired by the Assistant Secretary of the Treasury for Enforcement. The Committee will function for a two-year period before renewal or termination and will meet approximately eight times (quarterly) during the period. Additional special meetings of the full Committee or a subcommittee thereof may be convened if necessary.

The meetings will generally be held in the Treasury Department, Washington, D.C. However, typically one or two meetings per year may be held outside of Washington at a Customs port. In recent years, meetings have been held in Memphis, Portland, Boston, New Orleans, Nogales, Los Angeles and Seattle, among other locations.

The meetings are open to public observers, including the press, unless special procedures have been followed to close a meeting. During the first six terms of the Committee, only a portion of one meeting was closed.

The members shall be selected by the Secretary of the Treasury from representatives of the trade or transportation community serviced by Customs, the general public, or others who are directly affected by Customs commercial operations. In addition, members shall represent major regions of the country, and not more than ten members may be affiliated with the same political party. No person who is required to register under the Foreign Agents Registration Act as an agent or representative of a foreign principal may serve on an advisory committee. Members shall not be paid compensation nor shall they be considered Federal Government employees for any purpose. No per diem, transportation, or other expenses are reimbursed for the cost of attending Committee meetings at any location.

Members who are serving on the Committee during its expiring two-year term are eligible to reapply for membership. A new application letter and updated resume are required. It is expected that approximately half of the current membership of the Committee will be replaced with new appointees.

Membership on the Committee is personal to the appointee. Under the Charter, a member may not send an alternate to represent him or her at a Committee meeting. However, since Committee meetings are open to the public, another person from a member's organization may attend and observe the proceedings in a nonparticipating capacity. Regular attendance is essential; the Charter provides that a member who is absent for two consecutive meetings or two meetings in a calendar year shall lose his or her seat on the Committee.

Application for Advisory Committee Appointment

Any interested person wishing to serve on the Treasury Advisory Committee on Commercial Operations of the U.S. Customs Service must provide the following:

• Statement of interest and reasons for application;

• Complete professional biography or resume;

• Political affiliation, in order to ensure balanced representation. (Mandatory. If no party registration or allegiance, indicate “independent” or “unaffiliated”).

In addition, applicants must state in their applications that they agree to submit to preappointment security and tax checks (Mandatory). However, a security clearance is not required for the position.

There is no prescribed format for the application. Applicants may send a cover letter describing their interest and qualifications and enclosing a resume.

The application period for interested candidates will extend to July 3, 2000. Applications should be submitted in sufficient time to be received by the close of business on the closing date by John P. Simpson, Office of Regulatory, Tariff and Trade Enforcement, Office of the Under Secretary (Enforcement), Room 4004, Department of the Treasury, 1500 Pennsylvania Avenue, NW, Washington, DC 20220, ATT: COAC 2000.

Dated: May 10, 2000.
Dennis M. O'Connell,
Acting Deputy Assistant Secretary (Regulatory, Tariff and Trade Enforcement).

[FR Doc. 00-12157 Filed 5-12-00; 8:45 am]

BILLING CODE 4810-25-M